SMALL BUSINESS ADMINISTRATION

[Eagle Fund III-A, L.P.; License No. 07/07-0117]

Notice Seeking Exemption Under Section 312 of the Small Business Investment Act, Conflicts of Interest

Notice is hereby given that Eagle Fund III-A, L.P., 101 S. Hanley Road, Suite 1250, St. Louis, Missouri 63105, a Federal Licensee under the Small Business Investment Act of 1958, as amended (the “Act”), in connection with the financing of a small concern, has sought an exemption under Section 312 of the Act and 13 CFR 107.730, Financings which Constitute Conflicts of Interest, of the Small Business Administration (“SBA”) Rules and Regulations. Eagle Fund III-A, L.P., provided a loan to Net Direct Merchants LLC, (“Net Direct”), 217 North Seminary Street, Florence AL, 35630. The financing was contemplated to provide capital that contributes to the growth and overall sound financing of Net Direct.

The financing is brought within the purview of § 107.730(a)(1) because Eagle Fund II, L.P., an Associate of Eagle Fund III-A, L.P. as defined in § 107.50, owns a ten percent or greater equity interest in Net Direct. Accordingly, Net Direct is considered an Associate of Eagle Fund III-A, L.P.

Notice is hereby given that any interested person may submit written comments on the transaction to the Associate Administrator, Office of Investment and Innovation, U.S. Small Business Administration, 409 Third Street SW., Washington, DC 20416.

Javier E. Saade,
Associate Administrator, Office of Investment and Innovation.

[FR Doc. 2015-02028 Filed 2-2-15; 8:45 am]

BILLING CODE 8025-01-P